DEPARTMENT OF THE INTERIOR

Bureau of Land Management

[LLMT926000-L14200000-BK0000]

Notice of Filing of Plats of Survey; Montana

AGENCY: Bureau of Land Management, Interior.

ACTION: Notice of filing of plats of survey.

SUMMARY: The Bureau of Land Management (BLM) will file the plat of survey of the lands described below in the BLM Montana State Office, Billings, Montana, on March 28, 2014.

DATES: Protests of the survey must be filed before March 28, 2014 to be considered.

ADDRESSES: Protests of the survey should be sent to the Branch of Cadastral Survey, Bureau of Land Management, 5001 Southgate Drive, Billings, Montana 59101-4669.

FOR FURTHER INFORMATION CONTACT: Thomas Trzinski, Cadastral Surveyor, Branch of Cadastral Survey, Bureau of Land Management, 5001 Southgate Drive, Billings, Montana 59101-4669, telephone (406) 896-5364 or (406) 896-5009, ttrzinsk@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the BLM, Miles City Field Office, and was necessary to determine federal interest lands. The lands we surveyed are:

Principal Meridian, Montana

T. 1/2 N., R. 40 E.

The plat, in two sheets, representing the dependent resurvey and survey of Township 1/2 North, Range 40 East, Principal Meridian, Montana, was accepted February 7, 2014.

We will place a copy of the plat, in two sheets, we described in the open files. They will be available to the public as a matter of information. If the BLM receives a protest against this survey, as shown on this plat, in two sheets, prior to the date of the official filing, we will stay the filing pending our consideration of the protest. We will not officially file this plat, in two sheets, until the day after we have accepted or dismissed all protests and they have become final, including decisions or appeals.

Authority: 43 U.S.C. Chap. 3.

Josh Alexander,
Acting Chief Cadastral Surveyor, Division of Resources.

[FR Doc. 2014-04141 Filed 2-25-14; 8:45 am]

BILLING CODE 4310-DN-P